NATIONAL AERONAUTICS AND SPACE ADMINISTRATION

[Notice 07-022]

Notice of Intent To Grant Partially Exclusive License

AGENCY: National Aeronautics and Space Administration.

ACTION: Notice of intent to grant exclusive license

SUMMARY: This notice is issued in accordance with 35 U.S.C. 209(c)(1) and 37 CFR 404.7(a)(1)(i). NASA hereby gives notice of its intent to grant a partially exclusive license worldwide to practice the inventions described and claimed in U.S. Patent Nos. 5,155,035, entitled “ Method for Culturing Mammalian Cells in a Perfused Bioreactor”; 5,153,133, entitled “Method for Culturing Mammalian Cells in a Horizontally Rotated Bioreactor”; 5,155,034, entitled “Three Dimensional Cell to Tissue Assembly Process”; 5,153,132, entitled “Three-Dimensional Co-culture Process”; 5,308,764, entitled “Multi-Cellular Three-Dimensional Living Mammalian Tissue”; 5,627,021, entitled “Three-Dimensional Co-Culture Process”; 5,153,131, entitled “High Aspect Reactor Vessel and Method of Use”; 5,496,722, entitled “Method for Producing Non-neoplastic, Three-dimensional, Mammalian Tissue and Cell Aggregates under Microgravity Culture Conditions and the Products Produced Therefrom”; 5,846,807, entitled “Media Compositions for Three-dimensional Mammalian Tissue Grown under Microgravity Culture Conditions”; 5,858,783, entitled “Production of Normal Mammalian Organ Culture Using a Medium Containing MEM-alpha, Leibovitz L-15, Glucose Galactose Fructose”; 5,962,324, entitled “Three Dimensional Optic Tissue Culture and Process”; 6,485,963, entitled “Growth Stimulation of Biological Cells and Tissue by Electromagnetic Fields and Uses Thereof”, 6,673,597, entitled “Growth Stimulation of Biological Cells and Tissue by Electromagnetic Fields and Uses Thereof”; 6,730,498, entitled “Production of Functional Proteins: Balance of Shear Stress and Gravity”; 6,946,246, entitled “Production of Functional Proteins: Balance of Shear Stress and Gravity”, U.S. Patent Application Serial Number 10/734,759, entitled “Production of Functional Proteins: Balance of Shear Stress and Gravity”, U.S. Patent Application Serial Number 10/947,786, entitled “Production of Functional Proteins: Balance of Shear Stress and Gravity”, Foreign Patent No. 0423277 “Bio-Reactor Cell Culture Process”, Foreign Patent No. 1987294, “Bio-Reactor Cell Culture Process”, International Application No. PCT/US98/06826, European Application No. 98915320.0 entitled “Production of Functional Proteins: Balance of Shear Stress and Gravity”, International Application No. PCT/US98/06826, Japanese Application No. 10-540983 entitled “Production of Functional Proteins: Balance of Shear Stress and Gravity”, International Application No. PCT/US98/06826, Canadian Application No. 2286349 entitled “Production of Functional Proteins: Balance of Shear Stress and Gravity”, International Application No. PCT/US98/06826, Israeli Application No. 132264 entitled “Production of Functional Proteins: Balance of Shear Stress and Gravity”, International Application No. PCT/US98/06826, Mexican Application No. 999265 entitled “Production of Functional Proteins: Balance of Shear Stress and Gravity”, and International Application No. PCT/US98/06826, Brazilian Application No. 98915320.0 entitled “Production of Functional Proteins: Balance of Shear Stress and Gravity”, to Aedifico Biosciences, Inc., having its principal place of business in Beverly Hills, California. The fields of use may be limited to cosmetics and personal care products. The patent rights in these inventions have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license. Objections submitted in response to this notice will not be made available to the public for inspection and, to the extent permitted by law, will not be released under the Freedom of Information Act, 5 U.S.C. 552.

ADDRESSES: Objections relating to the prospective license may be submitted to Patent Counsel, Office of Chief Counsel, Mail Code AL, 2101 NASA Parkway, Houston, TX 77058, (281) 483-4871; (281) 483-6936 [Facsimile].

FOR FURTHER INFORMATION CONTACT: Kurt G. Hammerle, Patent Attorney, Office of Chief Counsel, Johnson Space Center, Mail Code AL, 2101 NASA Parkway, Houston, TX 77058, (281)483-1001; (281)483-6936 [Facsimile]. Information about other NASA inventions available for licensing can be found online at http://technology.nasa.gov/.

Dated: March 1, 2007.
Keith T. Sefton,
Deputy General Counsel, Administration & Management.

[FR Doc. E7-4099 Filed 3-7-07; 8:45 am]

BILLING CODE 7510-13-P